DEPARTMENT OF THE INTERIOR

National Park Service

[NPS-WASO-NRNHL-15705; PPWOCRADI0, PCU00RP14.R50000]

National Register of Historic Places; Notification of Pending Nominations and Related Actions

Nominations for the following properties being considered for listing or related actions in the National Register were received by the National Park Service before April 26, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by June 4, 2014. Before including your address, phone number, email address, or other personal identifying information in your comment, you should be aware that your entire comment—including your personal identifying information—may be made publicly available at any time. While you can ask us in your comment to withhold your personal identifying information from public review, we cannot guarantee that we will be able to do so.

Dated: April 30, 2014.
J. Paul Loether,
Chief, National Register of Historic Places/, National Historic Landmarks Program.

FLORIDA

Columbia County

O'Leno State Park, 410 SE. O'Leno Park Rd., High Springs, 14000282

Pinellas County

Dunedin Isles Golf Club Golf Course, 1050 Palm Blvd., Dunedin, 14000283

IOWA

Bremer County

Harmon and LeValley Northwest Historic District, Roughly Cedar R., 1st, 7th & 6th Aves., NW., Waverly, 14000284

Clayton County

Motor Mill Historic District (Boundary Increase), (Flour Milling in Iowa MPS) Address Restricted, Elkader, 14000285

Pottawattamie County

Hotel Chieftain, 38 Pearl St., Council Bluffs, 14000286

MASSACHUSETTS

Plymouth County

Duxbury Pier Light, (Light Stations of the United States MPS) Mouth of Duxbury Bay at Plymouth Bay, 5.1 mi. NNE. of Plymouth Rock, Plymouth, 14000287

NEBRASKA

Lancaster County

Lincoln Haymarket Historic District, Generally 7th to 9th & N to R Sts., Lincoln, 14000288

NEW YORK

New York County

Ansche Chesed Synagogue, 1883 Adam Clayton Powell Jr. Blvd., New York, 14000289

Washington County

Martin—Fitch House & Asa Fitch, Jr. Laboratory, 4183 NY 29, Salem, 14000290

NORTH CAROLINA

Alamance County

Oneida Cotton Mills and Scott—Mebane Manufacturing Company Complex, 219 & 220 W. Harden St., Graham, 14000291

OHIO

Hamilton County

Alameda Flats, The, (Apartment Buildings in Ohio Urban Centers, 1870-1970 MPS) 3580-3586 Reading Rd., Cincinnati, 14000293

Poinciana Flats, (Apartment Buildings in Ohio Urban Centers, 1870-1970 MPS) 3522 Reading Rd., Cincinnati, 14000294

Mahoning County

Gallagher Building, 23 N. Hazel & 131 Commerce Sts., Youngstown, 14000295

OKLAHOMA

Adair County

Breadtown, (Cherokee Trail of Tears MPS) Address Restricted, Westville, 14000296

Grady County

Griffin House, 1402 W. Kansas Ave., Chickasha, 14000297

Payne County

Cross, Hamilton, House, 1509 W. 9th, Stillwater, 14000298

Tulsa County

McGregor House, (Bruce Goff Designed Resources in Oklahoma MPS) 1401 S. Quaker Ave., Tulsa, 14000299

SOUTH CAROLINA

Greenville County

U.S. Post Office and Courthouse, 300 E. Washington St., Greenville, 14000300

VIRGINIA

Giles County

Narrows Commercial Historic District, 100-300 blk. Main, 100 blk. Mary, 100 blk. Monroe & 100 blk. Center Sts., 100 blk. MacArthur Ln., Narrows, 14000301

Richmond Independent city

Hermitage Road Warehouse Historic District, Bounded by Hermitage & Overbrook Rds., Sherwood Ave., I-95, Richmond (Independent City), 14000302

In the interest of preservation a three day comment period has been requested for the following resource:

OHIO

Butler County

High Street Commercial Block (Boundary Increase), 216-226 High St., Hamilton, 14000292

[FR Doc. 2014-11578 Filed 5-19-14; 8:45 am]

BILLING CODE 4312-51-P